DEPARTMENT OF THE INTERIOR

Fish and Wildlife Service

[FWS-R8-FHC-2013-N128;FXFR1334088TWG0W4-123-FF08EACT00]

Trinity Adaptive Management Working Group; Public Meeting, Teleconference and Web-Based Meeting

AGENCY: Fish and Wildlife Service, Interior.

ACTION: Notice.

SUMMARY: We, the U.S. Fish and Wildlife Service, announce a public meeting, teleconference and web-based meeting of the Trinity Adaptive Management Working Group (TAMWG).

DATES: Public meeting, Teleconference, and web-based meeting: Tuesday June 25, 2013, from 9:30 a.m. to 5 p.m. Pacific time. Deadlines: For deadlines and directions on registering to listen to the meeting by phone, listening and viewing on the Internet, submitting written material, please see “Public Input” under SUPPLEMENTARY INFORMATION.

ADDRESSES: The meeting will be held at the Weaverville Fire District, 125 Bremer Street, Weaverville, CA 96093. You may participate in person or by teleconference or web-based meeting from your home computer or phone.

FOR FURTHER INFORMATION CONTACT: Elizabeth W. Hadley, Redding Electric Utility, 777 Cypress Avenue, Redding, CA 96001; telephone: 530-339-7327; email: ehadley@reupower.com.

SUPPLEMENTARY INFORMATION: In accordance with the requirements of the Federal Advisory Committee Act, 5 U.S.C. App., we announce that the Trinity Adaptive Management Working Group (TAMWG) will hold a meeting.

Background

The TAMWG affords stakeholders the opportunity to give policy, management, and technical input concerning Trinity River (California) restoration efforts to the Trinity Management Council (TMC). The TMC interprets and recommends policy, coordinates and reviews management actions, and provides organizational budget oversight.

Meeting Agenda

• Designated Federal Officer (DFO) updates,

• TMC Chair report,

• Executive Director's report,

• 2013 design update,

• Scientific Advisory Board phase 1 review,

• Ethics coordination,

• Update from TRRP workgroups,

• Update on Decision Support System implementation, and

• Bid contracting.

The final agenda will be posted on the Internet at http://www.fws.gov/arcata.

Public Input

If you wish to | You must contact Elizabeth Hadley (FOR FURTHER INFORMATION CONTACT) no later than
Listen to the teleconference/web-based meeting via telephone or Internet | June 18, 2013.
Submit written information or questions for the TAMWG to consider during the teleconference | June 18, 2013.

Submitting Written Information or Questions

Interested members of the public may submit relevant information or questions for the TAMWG to consider during the meeting. Written statements must be received by the date listed in “Public Input,” so that the information may be available to the TAMWG for their consideration prior to this teleconference. Written statements must be supplied to Elizabeth Hadley in one of the following formats: One hard copy with original signature, and one electronic copy with original signature, and one electronic copy via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The minutes will be available for public inspection within 90 days after the meeting, and will be posted on the TAMWG Web site at http://www.fws.gov/arcata.

Dated: June 5, 2013.
Joseph C. Polos,
Supervisory, Fish Biologist, Arcata Fish and Wildlife Office, Arcata, California.

[FR Doc. 2013-13900 Filed 6-11-13; 8:45 am]

BILLING CODE 4310-55-P